DEPARTMENT OF HEALTH AND HUMAN SERVICES

Centers for Disease Control and Prevention

[60Day-18-1046; Docket No. CDC-2018-0008]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled National Breast and Cervical Cancer Early Detection Program (NBCCEDP) Monitoring Activities. CDC is requesting a revision to this information collection project to include a redesigned survey and a new clinic-level data collection.

DATES: CDC must receive written comments on or before March 27, 2018.

ADDRESSES: You may submit comments, identified by Docket No. CDC-2018-0008 by any of the following methods:

• Federal eRulemaking Portal: Regulations.gov. Follow the instructions for submitting comments.

• Mail: Leroy A. Richardson, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Breast and Cervical Cancer Early Detection Program (NBCCEDP) Monitoring Activities—(OMB No. 0920-1046, exp. 01/31/2018)—Reinstatement with Change—National Center for Chronic Disease Prevention and Health Promotion (NCCDPHP), Centers for Disease Control and Prevention (CDC).

Background and Brief Description

CDC is requesting a revision of the information collection with the OMB Control Number 0920-1046, formerly entitled “Annual Survey of the National Breast and Cervical Cancer Early Detection Program Grantees' Program Implementation”. We are proposing a new title, “National Breast and Cervical Cancer Early Detection Program (NBCCEDP) Monitoring Activities.” In the previous OMB approval period, information collection consisted of an annual grantee survey. In the next OMB approval period, information collection will consist of a redesigned survey and a new clinic-level data collection. The number of respondents will increase from 67 to 70, and the total estimated annualized burden will increase from 45 to 683.

Breast and cervical cancers are prevalent among women in the United States. In 2014, more than 236,000 women were diagnosed with breast cancer, and more than 12,000 women were diagnosed with cervical cancer. Evidence shows that deaths from both breast and cervical cancers can be avoided by increasing screening services among women. However, screening is typically underutilized among women who are under- or uninsured, have no regular source of healthcare, or who recently immigrated to the U.S. As a longstanding priority within chronic disease prevention, CDC focuses on increasing access to these cancer screenings, particularly among women who may be at increased risk.

To improve access to cancer screening, Congress passed the Breast and Cervical Cancer Mortality Prevention Act of 1990 (Pub. L. 101-354), which directed CDC to create the National Breast and Cervical Cancer Early Detection Program (NBCCEDP). The NBCCEDP currently provides funding to 70 grantees under “Cancer Prevention and Control Programs for State, Territorial, and Tribal Organizations (DP17-1701).” NBCCEDP grantees include states or their bona fide agents; U.S. territories; and tribes or tribal organizations. The purpose of NBCCEDP is to increase breast and cervical cancer screening rates among women residing within defined geographical locations (as determined by the funded program) who are at or below 250% of the federal poverty level; aged 40-64 years for breast cancer services, and aged 21-64 years for cervical cancer services; and under- or uninsured.

The NBCCEDP was significantly redesigned in 2017 to expand its focus on direct service provision to include implementation of evidence-based interventions (EBIs) intended to increase breast and cervical cancer screening at the population level. Based on the redesigned NBCCEDP, the information collection plan has also been redesigned. CDC is required to monitor and evaluate processes and outcomes related to the NBCCEDP.

CDC proposes two forms of information collection. First, the NBCCEDP Grantee Survey was reconstructed to reflect the focus of the redesigned program under DP17-1701. The grantee survey will be submitted to CDC annually. Second, CDC proposes to collect clinic-level data to assess EBI implementation and the NBCCEDP's primary outcome of interest—breast and cervical screening rates within partner health system clinics. NBCCEDP grantees will collect and report baseline and annual clinic-level data for all partnering health system clinic sites—an estimated 6 clinics per grantee for breast cancer data and 6 clinics per grantee for cervical cancer data. All information will be reported to CDC electronically.

The proposed information collections will allow CDC to gauge progress in meeting NBCCEDP program goals and monitor implementation activities, evaluate outcomes, and identify grantee technical assistance needs. In addition, findings will inform program improvement and help identify successful activities that need to be maintained, replicated, or expanded.

CDC seeks a three-year OMB approval. Participation is required for NBCCEDP grantees. There are no costs to respondents other than their time.

Estimated Annualized Burden Hours
Type of respondent | Form name | Number of respondents | Number of responses per respondent | Average burden per response (in hours) | Total burden (in hours)
NBCCEDP Grantees | NBCCEDP Grantee Survey | 70 | 1 | 45/60 | 53
NBCCEDP Grantees | NBCCEDP Clinic-level Information Collection Instrument—Breast | 70 | 6 | 45/60 | 315
NBCCEDP Grantees | NBCCEDP Clinic-level Information Collection Instrument—Cervical | 70 | 6 | 45/60 | 315
Total |  |  |  |  | 683

Leroy A. Richardson,
Chief, Information Collection Review Office, Office of Scientific Integrity, Office of the Associate Director for Science, Office of the Director, Centers for Disease Control and Prevention.

[FR Doc. 2018-01381 Filed 1-25-18; 8:45 am]

BILLING CODE 4163-18-P